Title 3—

The President

Proclamation 9670 of November 1, 2017

National Veterans and Military Families Month, 2017

By the President of the United States of America

A Proclamation

During National Veterans and Military Families Month, we honor the significant contributions made by American service members, their families, and their loved ones. We set aside this month surrounding Veterans Day to hold observances around the country to honor and thank those whose service and sacrifice represent the very best of America. We renew our Nation's commitment to support veterans and military families. They deserve it.

Our veterans are our heroes. Our Armed Forces have preserved the security and freedom that allow us to flourish as a Nation. They have braved bitter winters, treacherous jungles, barren deserts, and stormy waters to defend our Nation. They have left their families to face danger and uncertainty, and they have endured the wounds of war, all to protect our Nation's interests and ideals established during the Founding.

Our military families endure many hardships along with those who defend our Nation. They are separated from their loved ones for months on end and frequently relocated across the country and around the world. They often live far from their extended families, and they know what it is like to celebrate holidays and milestones with an empty seat at the table. Many military spouses face the task of making ends meet while their loved ones are away and of securing new employment with each change in duty station. Children of service members often grow up living a nomadic life—periodically calling a new place “home” and adjusting to different schools, trying out for new sports teams, and making new friends. In these lives of frequent change and transition, however, our incredible military families not only survive, they thrive.

It is our patriotic duty to honor veterans and military families. As part of our efforts to answer President Lincoln's charge to care for those who have “borne the battle,” I have asked the Department of Veterans Affairs (VA) to lead the Nation in a month of observances across the country to honor our veterans.

As veterans and military families attend these events, they will see the reforms and improvements that we have made at the VA. Over the last 9 months, we have made important changes that enable better service for our veterans. We have increased accountability and enhanced protections for whistleblowers. We have improved transparency, customer service, and continuity of care. We are working every day to ensure a future of high quality care and timely access to the benefits veterans have earned through their devoted service to a grateful Nation.

This month, in which Americans traditionally pause to give thanks for our blessings, it is fitting that we come together to honor with gratitude our extraordinary veterans and military families and their service to our country. May God continue to bless our Armed Forces and those families that love and support them.

NOW, THEREFORE, I, DONALD J. TRUMP, President of the United States of America, by virtue of the authority vested in me by the Constitution and the laws of the United States, do hereby proclaim November 2017 as National Veterans and Military Families Month. I encourage all communities, all sectors of society, and all Americans to acknowledge and honor the service, sacrifices, and contributions of veterans and military families for what they have done and for what they do every day to support our great Nation.

IN WITNESS WHEREOF, I have hereunto set my hand this first day of November, in the year of our Lord two thousand seventeen, and of the Independence of the United States of America the two hundred and forty-second.

[FR Doc. 2017-24299

Filed 11-3-17; 11:15 am]

Billing code 3295-F8-P